NUCLEAR REGULATORY COMMISSION

Correction to Biweekly Notice Applications and Amendments to Facility Operating Licenses Involving No Significant Hazards Considerations

On January 22, 2002 (67 FR 2917), the Federal Register published the Biweekly Notice of Applications and Amendments to Facility Operating Licenses Involving No Significant Hazards Considerations. On page 2923, top of column 3, the notice entitled “Entergy Nuclear Operations, Inc., Docket No. 50-333, James A. FitzPatrick (JAF) Nuclear Power Plant, Oswego County, New York,” the Date of amendment request should be January 9, 2002, instead of November 2, 2001.

Dated at Rockville, Maryland, this 7th day of February 2002.
For the Nuclear Regulatory Commission.
John A. Zwolinski,
Director, Division of Licensing Project Management, Office of Nuclear Reactor Regulation.

[FR Doc. 02-3506 Filed 2-12-02; 8:45 am]

BILLING CODE 7590-01-P